DEPARTMENT OF HOMELAND SECURITY

Coast Guard

[Docket No. USCG-2009-0166]

Nationwide Use of High Frequency and Ultra High Frequency Active SONAR Technology; Final Programmatic Environmental Assessment and Finding of No Significant Impact

AGENCY: Coast Guard, DHS.

ACTION: Notice of availability.

SUMMARY: The Coast Guard (USCG) announces the availability of the Final Programmatic Environmental Assessment (PEA) for the Nationwide Use of High Frequency (HF) and Ultra High Frequency (UHF) Sound Navigation and Ranging (SONAR) Technology and Finding of No Significant Impact (FONSI). The USCG is proposing the nationwide use of active SONAR technologies that operate at frequencies of 50 kiloHertz (kHz) and greater from fixed and mobile platforms. Active SONAR technology would be used in support of USCG missions to locate, image, and classify submerged/underwater targets of interest (TOI). The PEA is a program-level document that will provide the USCG with management-level analysis of the potential impacts of each alternative on the human and natural environments.

FOR FURTHER INFORMATION CONTACT: If you have questions on this notice or regarding the Proposed Action, contact Mr. Kenneth McDaniel, CT & WMD Senior Program Manager, Office of Counterterrorism & Defense Operations Policy, by telephone 202-372-2119 or email Kenneth.L.McDaniel@uscg.mil. For information on the National Environmental Policy Act (NEPA) or to request paper copies of the PEA or FONSI contact Ms. Kebby Kelley (CG-47), Program Manager, USCG NEPA/Historic Resources, by telephone 202-475-5690 or email Kebby.Kelley@uscg.mil. If you have questions on viewing or submitting material to the docket, call Barbara Hairston, Program Manager, Docket Operations, telephone 202-366-9826.

SUPPLEMENTARY INFORMATION:

Purpose of Proposed Action

The purpose of the Proposed Action is to broaden the USCG's capability to locate and classify underwater threats and other TOIs, and to more safely and effectively accomplish the USCG's missions. TOIs could include combat swimmers/divers; explosives or other offensive devices that could be delivered to underwater hulls, piers, or other shore structures; and objects that have become submerged as a result of a natural or man-made disaster and have the potential to interrupt maritime transportation, trade, commerce, recreational boating, or other maritime activities. The use of HF (50 to 999 kHz) and UHF (1,000 kHz and higher) active SONAR technology would provide USCG operational commanders with the ability to locate, image, and classify underwater threats and other TOIs. HF and UHF SONAR technology could be used in response to events such as: The attacks of September 11, 2001; natural disasters such as Hurricanes Katrina and Rita of 2005; established security areas around high-value vessels, infrastructure, and special security events; and maritime environmental response and search-and-rescue activities.

The USCG needs to broaden its capability to locate, image, and classify submerged/underwater TOIs to safely and efficiently accomplish mission activities. The USCG needs to detect targets in ranges of less than 2 kilometers and needs to operate in harbor, anchorage, channel, and wharf environments, including fresh, brackish, and salt waters, day or night regardless of visibility and in air and water temperatures and thermoclines normal for port/harbor and offshore environments throughout the United States. The USCG's current research of commercially available and reliable technology indicates that the nationwide employment of various HF and UHF active SONAR technology systems would provide the needed capability.

Proposed Use

HF and UHF SONAR use would fall into one of three general categories: (1) Operational missions, (2) training and exercises, and (3) research and development. All SONAR use would be of relatively short-term duration (typically less than two weeks, unless otherwise required for an emergency or disaster). Regardless of the category, such use would only be for the amount of time necessary to complete the mission objectives. In no case is the USCG proposing long-term deployments of SONAR equipment in fixed positions (unless required by an emergency or disaster). In general, the duration of SONAR use would be from minutes to as long as several days. Typically, the duration of most deployments would be less than two weeks; however, for environmental disasters such as the Deepwater Horizon oil spill, SONAR equipment could be used on-site until the emergency has ended. An example of a high-priority nonemergency operational mission is the anti-swimmer SONAR system that would provide security zone protection during a two-day special event. Once the event has concluded, the system would be shut down and removed.

The USCG proposes to use HF and UHF SONAR technology from fixed and mobile platforms nationwide. Mobile platforms include ships, boats, remotely operated vehicles (ROVs), and autonomous underwater vehicles (AUVs). Additionally, SONAR could be towed by a boat (i.e., a torpedo-shaped “towfish”), lowered from a boat on a pole, or temporarily fixed to a pier or a pile. Impacts on the seafloor from ROV and AUV operations would not be significant. ROVs would be used pierside or at a location appropriate for conducting vessel inspections. An appropriate location for inspection would be at a water depth that would preclude seafloor disturbance. As such, ROVs and AUVs would usually be suspended in the water column and would rarely contact the seafloor. Typically, ROVs and AUVs would be used in open, navigable waterways or safe anchorages. However, an ROV or AUV might contact the seafloor if there is a suspected threat on the seafloor that needs to be investigated; such contact would be short-term and transient in nature.

Although selected HF and UHF SONAR systems could be employed by any USCG unit to accomplish a mission, the USCG does not intend to permanently equip or outfit every USCG unit with SONAR capability. The HF and UHF SONAR systems selected could be powered using existing USCG power supplies such as public electrical distribution grids, shipboard electrical power, or portable generators (e.g., Honda 1,000-watt generator).

Scope of the Programmatic Environmental Assessment

The scope of the PEA focuses on potential impacts associated with the anticipated use of the HF and UHF SONAR systems to accomplish USCG mission activities. The PEA addresses potential impacts on living marine resources based on these operating criteria. Supplemental, follow-on NEPA documentation or additional consultations with appropriate resource authorities would be required if site-specific, non-mobile operating scenarios or newly developed technologies fall outside of the scope of this assessment. The scope of the PEA encompasses geographic locations where the systems are expected to operate.

The SONAR technology systems would be available for use by the USCG within all areas under USCG jurisdiction along the U.S. continental coastline, the Great Lakes, Hawaii, Alaska, United States territories, and inland operating areas. The inland operating areas would include existing harbor infrastructure and adjacent inland waters, including the St. Lawrence Seaway, the Great Lakes, and western and inland river systems. The offshore operating areas would include areas up to 12 nautical miles offshore and most areas shoreward. Normal locations for deployments would include the ports and waterways of the nation's top tiered militarily and economically significant ports. Emergency use of HF and UHF SONAR technology during times of extreme weather, such as hurricanes, could be required for onshore areas that become inundated by floodwater.

The Final PEA was prepared using input from public comment received on the Draft PEA, as well as input received from Federal agencies, most notably during the course of consultation completed, as required, under section 7 of the Endangered Species Act (16 U.S.C. 1531 to 1544).

This notice is issued under authority of 42 U.S.C. 4321, et seq., and 40 CFR 1506.6.

Dated: November 21, 2013.
Ken Ward,
Office Chief, USCG Office of Counterterrorism & Defense Operations Policy.

[FR Doc. 2013-28337 Filed 11-25-13; 8:45 am]

BILLING CODE 9110-04-P